DEPARTMENT OF ENERGY

U.S. Energy Information Administration

Agency Information Collection Extension

AGENCY: U.S. Energy Information Administration (EIA), Department of Energy.

ACTION: Notice and Request for OMB Review and Comment.

SUMMARY: The EIA has submitted an information collection request to the OMB for extension under the provisions of the Paperwork Reduction Act of 1995. The information collection requests a three-year extension of its Form EIA-846, “Manufacturing Energy Consumption Survey” (MECS), OMB Control Number 1905-0169. The proposed collection will collect data on energy consumption and related subjects for the manufacturing sector of the U.S. economy. Those manufacturing establishments selected for the 2014 sample will have data collected on basic energy consumption and expenditures, shipments of energy offsite, end use consumption, building characteristics, participation in energy management programs, technologies, and fuel-switching capacity. The MECS will be conducted by the U.S. Department of Commerce's Bureau of the Census, acting as the data collection agent for EIA. This survey will be fielded in early 2015 to collect data for calendar year 2014.

DATES: Comments regarding this proposed information collection must be received on or before November 26, 2014. If you anticipate that you will be submitting comments, but find it difficult to do so within the period of time allowed by this notice, please advise the DOE Desk Officer at OMB of your intention to make a submission as soon as possible. The Desk Officer may be telephoned at 202-395-4718.

ADDRESSES: Written comments should be sent to the

DOE Desk Officer, Office of Information and Regulatory Affairs, Office of Management and Budget, New Executive Office Building, Room 10102, 735 17th Street NW., Washington, DC 20503.

And to

Tom Lorenz, Office of Energy Consumption and Efficiency Statistics, EI-22, Forrestal Building, U.S. Department of Energy, 1000 Independence Ave. SW., Washington, DC 20585 or by fax at (202) 586-9753, or by email at Thomas.Lorenz@eia.gov.

FOR FURTHER INFORMATION CONTACT: Requests for additional information or copies of the information collection instrument and instructions should be directed to Tom Lorenz, Office of Energy Consumption and Efficiency Statistics, EI-22, Forrestal Building, U.S. Department of Energy, 1000 Independence Ave. SW., Washington, DC 20585 or by fax at (202) 586-9753, or by email at Thomas.Lorenz@eia.gov. To view the form online please go to: http://www.eia.gov/survey/notice/consumption_mecs2014.cfm.

SUPPLEMENTARY INFORMATION: This information collection request contains:

(1) OMB No. 1905-0169;

(2) Information Collection Request Title: Manufacturing Energy Consumption Survey (MECS);

(3) Type of Request: Reinstatement, with change, of a previously approved collection for which approval has expired;

(4) Purpose:

The Federal Energy Administration Act of 1974 (15 U.S.C. 761 et seq.) and (42 U.S.C. 7135(i)) require the EIA to carry out a centralized, comprehensive, and unified energy information program. This program collects, evaluates, assembles, analyzes, and disseminates information on energy resource reserves, production, demand, technology, and related economic and statistical information. This information is used to assess the adequacy of energy resources to meet near and longer term domestic demands and to promote sound policymaking, efficient markets, and public understanding of energy and its interaction with the economy and the environment.

The Manufacturing Energy Consumption Survey (MECS) is a self-administered sample survey designed to collect energy consumption and expenditures data from establishments in the manufacturing sector; i.e., North American Industry Classification System (NAICS) codes 31-33. Previous MECS required multiple collection forms depending on an establishment's primary business activity classification under NAICS. The increased use of technology by means of an Internet data collection system however, has allowed the MECS to eliminate the need to have multiple forms.

The 2014 MECS will collect information during 2015 for business activities in calendar year 2014. For the 2014 MECS, as in the past, EIA proposes to collect the following data from each MECS establishment: (1) For each energy source consumed—consumption (total, fuel and nonfuel uses) and the expenditures for each energy source, energy storage (as applicable), energy produced onsite, and shipments (as applicable); (2) energy end uses; (3) fuel-switching capabilities; (4) general energy-saving technologies; (5) energy management activities; and (6) square footage, and number of buildings in the establishment.

The MECS has been conducted eight times previously, covering the years 1985, 1988, 1991, 1994, 1998, 2002, 2006, and 2010. In all eight survey years, the MECS has collected baseline data on manufacturers' energy consumption and expenditures. The MECS collected data on fuel-switching capabilities in all years except 1998. In the 1991, 1994, 1998, 2002, 2006, and 2010 surveys, the MECS also collected data on end-uses, energy management activities, building square footage, and energy-saving technologies.

The MECS information is the basis for data and analytic products that can be found at http://www.eia.gov/consumption/manufacturing. Also on this Web site are past publications, articles, and a special analytic series, “Industry Analysis Briefs.” The 2014 MECS will also be used to benchmark EIA's industry forecasting model and update changes in the energy intensity and greenhouse gases data series.

The proposed 2014 MECS uses experience gained from the administration and processing of the eight previous surveys and past consultations with respondents, trade association representatives, and data users to improve the survey.

Please refer to the forms and instructions for more information about the purpose, who must report, when to report, where to submit, the elements to be reported, detailed instructions, provisions for confidentiality, and uses of the information. For instructions on obtaining materials, see the FOR FURTHER INFORMATION CONTACT section;

(5) Estimated Number of Respondents: 15,500;

(6) Annual Estimated Number of Total Responses: 5,167;

(7) Annual Estimated Number of Burden Hours: 47,603;

(8) Annual Estimated Reporting and Recordkeeping Cost Burden: EIA estimates that there are no additional costs to respondents associated with the survey other than the costs associated with the burden hours.

Statutory Authority: Section 13(b) of the Federal Energy Administration Act of 1974, Public Law 93-275, codified at 15 U.S.C. 772(b).

Issued in Washington, DC, October 21, 2014.
Nanda Srinivasan,
Director, Office of Survey Development and Statistical Integration, U.S. Energy Information Administration.

[FR Doc. 2014-25460 Filed 10-24-14; 8:45 am]

BILLING CODE 6450-01-P